DEPARTMENT OF THE INTERIOR

National Park Service

National Register of Historic Places; Notification of Pending Nominations and Related Actions

Nominations for the following properties being considered for listing or related actions in the National Register were received by the National Park Service before June 7, 2008. Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington DC 20005; or by fax, 202-371-6447. Written or faxed comments should be submitted by July 10, 2008.

J. Paul Loether,
Chief, National Register of Historic Places/National Historic Landmarks Program.

FLORIDA

Bay County

Christo, A.A. Payne-John, Sr., House, 940 West Beach Dr., Panama City, 08000671

ILLINOIS

Lake County

Libertyville High School Brainerd Building, 416 W. Park Ave., Libertyville, 08000678

IOWA

Marion County

Ten Hagen Cottage—Stegman Store, 1110 W. Washington St., Pella, 08000685

Van Maren, Henry and Johanna, House—Diamond Filling Station, 615 Main St., Pella, 08000683

Polk County

Des Moines Western Railway Freight House, (Advent & Development of Railroads in Iowa MPS) 625 E. Court Ave., Des Moines, 08000682

Story County

Sigma Sigma-Delta Chi Fraternity House, 405 Hayward Ave., Ames, 08000684

KANSAS

Harvey County

McKinley Residential Historic District, Roughly E. 5th St., SE 3rd St., Allison St., Walnut St., Newton, 08000670

Shawnee County

Constitution Hall—Topeka, 429 S. Kansas Ave., Topeka, 08000669

Wilson County

Brown Hotel (Boundary Increase), 519-523 Main St., Neodesha, 08000690

MAINE

Oxford County

Rivercroft Farm, 55, 59 and 60 River St., Fryeburg, 08000668

Penobscot County

Cliffwood Hall, 15 Rebel Hill Rd., Clifton, 08000666

Harold Allan Schoolhouse, 15 Rebel Hill Rd., Clifton, 08000667

MISSISSIPPI

Forrest County

Eaton Elementary School, 1105 McInnis Ave., Hattiesburg, 08000676

MISSISSIPPI

Hinds County

Mississippi Foundry and Machine Company Building, 300 W. South St., Jackson, 08000674

Marion County

Broad Street—Church Street Historic District, Roughly bounded by High School St. on the W. and Pine Ave. on the E. along Sumrall Ave. along Broad St., Columbia, 08000672

Oktibbeha County

Greensboro Street Historic District (Boundary Increase), Earnest Jones Jr. Dr., Greensboro St., Louisville St., Main St. W., Raymond St., Yeates St., Starkville, 08000673

Panola County

Como Commercial Historic District, (Johnson, Andrew, Architecture in North Mississippi TR) Roughly bounded by Elder Frank Ward St. on the W. and N. Main St on the E. On the N. bounded by Church Ave., Como, 08000675

MISSOURI

Cape Girardeau County

Schultz, Louis J., School, 101 S. Pacific St., Cape Girardeau, 08000663

Jasper County

Joplin Downtown Historic District, (Historic Resources of Joplin, Missouri) S. Main St., roughly between E. 4th and E. 6th Sts., Joplin, 08000661

Saline County

Arrow Rock Ferry, (Santa Fe Trail MPS) Address Restricted, Arrow Rock, 08000664

St. Louis Independent city Pendennis Club Apartment Building, 3737 Washington Ave., St. Louis, 08000665

NORTH DAKOTA

Ramsey County

Methodist Episcopal Church, 601 5th St. NE., Devils Lake, 08000680

Westminster Presbyterian Church, 501 5th St. NE., Devils Lake, 08000679

Rolette County

Coghlan Castle, Lot 2, SW 1/4 of the NW 1/4 T163N R69W Section 19, St. John, 08000681

TENNESSEE

Davidson County

Centennial Park, W. End Ave. jct 25th Ave. N., Nashville, 08000689

Knox County

North Hills Historic District, (Knoxville and Knox County MPS) Roughly bounded by North Hills Blvd., North Park Blvd., Fountain Park Blvd., Knoxville, 08000677

Madison County

Temple B'Nai Israel, 401 W. Grand St., Jackson, 08000687

Polk County

Copperhill Historic District (Boundary Increase), (Tennessee Copper Basin MPS) Roughly bounded by Depaul St., Depot St., and Main St., Copperhill, 08000688

VERMONT

Bennington County

Johnny Seesaw's Historic District, 3574 VT 11, Peru, 08000686

WISCONSIN

Sawyer County

Kinnamon School Building, 8493N Co. Rd. E, Hayward, 08000660

Request for REMOVAL has been made for the following resources:

MISSISSIPPI

Amite County

Talbert-Cassels House, Off MS 574, Gloster, 84002125

Hancock County

Glen Oak—Kimbrough House, (Bay St. Louis MRA) 806 N. Beach Blvd., Bay St. Louis, 86003271

Taylor House, (Bay St. Louis MRA) 808 N. Beach Blvd., Bay St. Louis, 86003273

Taylor School, (Bay St. Louis MRA) 116 Leonard St. Bay St. Louis, 87000209

Onward Oaks, (Bay St. Louis MRA) 972 South Beach Blvd., Bay St. Louis, 96001265

Harrison County

Brielmaier House, (Biloxi MRA) 710 Beach Blvd., Biloxi, 84002170

Fisherman's Cottage, (Biloxi MRA) 138 Lameuse St., Biloxi, 84002182

Gillis House, 590 Beach Blvd., Biloxi, 78001599

Hewes, Finley B., House, 604 E. Beach Blvd., Gulfport, 02000852

House at 771 West Water Street, (Biloxi MRA) 771 W. Water S., Biloxi, 84002191

Milner House, 720 E. Beach Blvd., Gulfport, 72000692

Reed, Pleasant House, 928 Elmer St., Biloxi, 79001308

Toledano-Philbrick-Tullis House, 947 E. Beach Blvd., Biloxi, 76001095

Jackson County

Clark, Clare T., House, (Pascagoula MPS) 1709 Beach Blvd., Pascagoula, 91001785

Cottage by the Sea Tavern, (Pascagoula MPS) 1205 Beach Blvd., Pascagoula, 91001789

Farnsworth, R.A., Summer Home, (Pascagoula MPS) 901 Beach Blvd., Pascagoula, 91001790

Halstead Place, (Ocean Springs MRA) E. Beach Dr., Ocean Springs, 87000594

Hull, Edgar W., House, (Pascagoula MPS) 2903 Beach Blvd., Pascagoula, 91001797

Kinne, Georgia P., House, (Pascagoula MPS) 1101 Beach Blvd., Pascagoula, 91001798

Lauderdale County

Meridian Baptist Seminary, 16th St. and 31st Ave. Meridian, 79001326

[FR Doc. E8-14297 Filed 6-24-08; 8:45 am]

BILLING CODE 4310-70-P